DEPARTMENT OF TRANSPORTATION

National Highway Traffic Safety Administration

49 CFR Parts 567, 591, 592, and 593

[Docket No. NHTSA 2009-0143; Notice 2]

RIN 2127-AK32

Certification; Importation of Vehicles and Equipment Subject to Federal Safety, Bumper, and Theft Prevention Standards; Registered Importers of Vehicles Not Originally Manufactured To Conform to the Federal Motor Vehicle Safety Standards

AGENCY: National Highway Traffic Safety Administration (NHTSA), DOT.

ACTION: Final rule.

SUMMARY: This document amends NHTSA's regulations pertaining to registered importers (“RIs”) of motor vehicles not originally manufactured to comply with all applicable Federal motor vehicle safety. The agency is amending RI application and renewal requirements to enable the agency to deny applications for registration from entities that have been convicted of a crime related to the importation, purchase, or sale of a motor vehicle or motor vehicle equipment and to revoke existing registrations held by such entities. Another amendment will require an RI to certify that it destroyed or exported nonconforming motor vehicle equipment removed from a vehicle during conformance modifications. The agency is also establishing new requirements for motor vehicles imported under import eligibility petitions, adopting a clearer definition of the term “model year” for import eligibility purposes, and requiring that import eligibility petitions include the type classification and gross vehicle weight rating (“GVWR”) of the subject vehicle. This notice also adopts several amendments to the RI regulations that add citations to provisions that can be used as a basis for the non-automatic suspension of an RI registration, deletes redundant text from another provision, and revises several sections to include the agency's current mailing address.

DATES: The amendments established by this final rule will become effective September 26, 2011. Petitions for reconsideration must be received by NHTSA not later than October 11, 2011.

ADDRESSES: Petitions for reconsideration of this final rule should refer to the docket and notice numbers identified above and should be submitted to: Administrator, National Highway Traffic Safety Administration, 1200 New Jersey Avenue, SE., West Building, Washington, DC 20590. It is requested, but not required, that 10 copies of the petition be submitted. The petition must be received not later than 45 days after publication of this final rule in the Federal Register. Petitions filed after that time will be considered petitions filed by interested persons to initiate rulemaking pursuant to 49 U.S.C. Chapter 301.

The petition must contain a brief statement of the complaint and an explanation as to why compliance with the final rule is not practicable, is unreasonable, or is not in the public interest. Unless otherwise specified in the final rule, the statement and explanation together may not exceed 15 pages in length, but necessary attachments may be appended to the submission without regard to the 15-page limit. If it is requested that additional facts be considered, the petitioner must state the reason why they were not presented to the Administrator within the prescribed time. The Administrator does not consider repetitious petitions and unless the Administrator otherwise provides, the filing of a petition does not stay the effectiveness of the final rule.

FOR FURTHER INFORMATION CONTACT: For non-legal issues contact Clint Lindsay, Office of Vehicle Safety Compliance, National Highway Traffic Safety Administration, 1200 New Jersey Avenue, SE., Washington, DC 20590 (202-366-5288). For legal issues contact Nicholas Englund, Office of Chief Counsel, National Highway Traffic Safety Administration, 1200 New Jersey Avenue, SE., Washington, DC 20590 (202-366-5263).

SUPPLEMENTARY INFORMATION:

Table of Contents

I. Background of This Rulemaking Action

A. The 1968 Importation Regulations and the Imported Vehicle Safety Compliance Act of 1988

B. Previous Regulatory Actions

1. The 2000 Notice of Proposed Rulemaking

2. The 2004 Final Rule

C. The 2011 Proposal To Amend the RI Regulations

II. Amendments to the RI Regulations

A. The Agency May Deny Registration to, or Revoke Registrations Held by Entities Convicted of Certain Crimes

B. Information Submitted in Annual RI Registration Renewals Must Be True and Correct

C. RIs Must Certify Destruction or Exportation of Nonconforming Motor Vehicle Equipment Removed From Imported Vehicles During Conformance Modifications

D. Establishing Procedures for Importation of Motor Vehicles for the Purpose of Preparing an Import Eligibility Petition

E. Adopting a Clearer Definition of the Term “Model Year” for the Purpose of Import Eligibility Decisions

F. Requiring Import Eligibility Petitions to Identify the Type Classification and Gross Vehicle Weight Rating (“GVWR”) of the Subject Vehicles

III. Technical Corrections

A. Identifying a Violation of Regulations in Part 592 as a Basis for the Non-Automatic Suspension or Revocation of an RI Registration

B. Deletion of Redundant Text From 49 CFR 592.5(a) Identifying Contents of the RI Application

C. Revisions to Certain Provisions To Reflect the Agency's Current Street Address

IV. Effective Date

V. Rulemaking Analyses and Notices Regulatory Text

I. Background of This Rulemaking Action

A. The 1968 Importation Regulations and the Imported Vehicle Safety Compliance Act of 1988

The National Traffic and Motor Vehicle Safety Act of 1966 as amended (“the Safety Act”), now codified at 49 U.S.C. chapter 301, requires imported vehicles to meet Federal motor vehicle safety standards (“FMVSS”). Effective January 10, 1968, a regulation jointly issued by NHTSA and the United States Customs Service (“Customs”), 19 CFR 12.80, allowed permanent importation of motor vehicles not originally manufactured to meet applicable FMVSS if, within 120 days from the date of entry, the importer demonstrated that the vehicle had been brought into compliance with those standards.

The Imported Vehicle Safety Compliance Act of 1988 (Pub. L. 100-562, “the 1988 Act”), which became effective on January 31, 1990, limited the importation of vehicles that did not comply with the FMVSS to those capable of being modified to comply. To enhance oversight, the 1988 Act required that necessary modifications be performed by “registered importers” (“RIs”). RIs are business entities that have demonstrated to NHTSA that they are technically and financially capable of importing nonconforming motor vehicles and of performing the necessary modifications on those vehicles so that they conform to all applicable FMVSS. See generally, 49 U.S.C. 30141-30147.

B. Previous Regulatory Actions

1. The 2000 Notice of Proposed Rulemaking

As mandated by the 1988 Act, the agency issued regulations covering the RI program (49 CFR parts 591 through 594) that superseded those in 19 CFR 12.80. See 54 FR 40069, Sept. 29, 1989.

After nearly a decade of experience with the initial regulations under the 1988 Act, the agency identified a number of unanticipated difficulties in administering the RI program. To address these difficulties and to ensure that imported vehicles were properly brought into conformance, the agency tentatively concluded that more information from applicants and more specificity about the duties of RIs would be necessary. NHTSA published a Notice of Proposed Rulemaking (“NPRM”) on November 20, 2000 seeking to clarify RI duties and application requirements. 65 FR 69810, Nov. 20, 2000. The NPRM proposed amendments clarifying the registration, suspension, and revocation procedures for RIs.

2. The 2004 Final Rule

After considering the comments to the NPRM, the agency published a final rule amending the importation regulations on August 24, 2004. 69 FR 52070. These amendments established new requirements for RI applicants and further delineated the duties of RIs. The amendments also revised the provisions for suspending or revoking RI registrations.

C. The 2011 Proposal To Amend the RI Regulations

Nearly seven years have passed since the agency last amended the RI regulations in 2004. During those years, the agency has looked closely at the RI program and determined the need for further amendments to the regulations to improve the program. As discussed in the NPRM, 76 FR 2631, Jan. 14, 2011, these amendments are needed to protect the integrity of the RI program and to clarify RI requirements. In reviewing RI regulations, the agency determined that RI regulations did not give the agency the ability to prevent a person convicted of a crime related to the importation of a motor vehicle from becoming or remaining as an RI. Allowing such a convicted person to become or remain as an RI threatens the integrity of the RI program. Similarly, the agency has discovered that nonconforming equipment removed during conformance modifications, such as headlights, has been offered for sale in the United States on Internet auction sites. To prevent these threats to the RI program's integrity, the agency is amending RI regulations. Also, the agency will require RIs to certify that the information provided in the annual renewal statement they submit under 49 CFR 592.5(f) is true and correct.

The agency also identified the need to clarify regulations related to import eligibility petitions. RIs seeking import eligibility for a nonconforming motor vehicle may need to import a vehicle for the purpose of preparing an import eligibility petition. In the past, the agency has permitted entry of these vehicles on an ad hoc basis. This final rule formalizes and clarifies the protocol for bringing in a very limited number of vehicles for the purpose of preparing an eligibility petition. Also related to the import eligibility petitions, the agency is adopting a clearer definition of the term “Model Year” and requiring that import eligibility petitions identify the type classification and gross vehicle weight rating (“GVWR”) of the subject vehicle.

The agency is also making technical corrections to the regulations. These corrections will identify violations of the regulations in part 592 as a basis for the non-automatic suspension or revocation of an RI registration, delete redundant text, and update the agency's mailing address.

As noted above, the agency published a notice of proposed rulemaking (NPRM) on January 14, 2011 to solicit public comments on these amendments. No comments were received in response to the NPRM.

II. Amendments to the RI Regulations

A. The Agency May Deny Registration to, or Revoke the RI Status of, Entities Convicted of Certain Crimes

The statute authorizing the RI program directs the agency to “establish procedures for registering a person who complies with requirements prescribed by the Secretary [of Transportation] by regulation under this subsection [49 U.S.C. 30141(c)]. * * *” As part of its responsibilities, an RI has the duty to ensure that each nonconforming vehicle that it imports or agrees to modify is brought into compliance with all applicable Federal motor vehicle safety and bumper standards, that an accurate statement of conformity is submitted to NHTSA certifying the vehicle's compliance following the completion of the modifications, and that the vehicle is not released for operation on the public roads until NHTSA releases the conformance bond. The agency approves RIs for the specific purpose of carrying out these important safety responsibilities. In this respect, each RI occupies a position of public trust to ensure that nonconforming vehicles imported under its auspices are properly conformed to all applicable standards before they are operated on public roads in the United States.

Congress authorized NHTSA to establish procedures and requirements for registering Registered Importers. Congress did not delineate all the requirements in the statute, but instead required NHTSA to issue rules. 49 U.S.C. 30141(c). The statute includes a non-exhaustive list of requirements that NHTSA should adopt, which would promote integrity in the RI program. These include record keeping requirements, records and facilities inspection authority, and the establishment of technical and financial requirements. In addition, the statute required NHTSA to establish procedures for revoking or suspending an RI registration for not complying with a requirement of 49 U.S.C. Chapter 301 Subchapter III, or any of sections 30112, 30115, 30117-30122, 30125(c), 30127, or 30166 of title 49 U.S. Code or regulations promulgated under Chapter 301 Subchapter III or any of the preceding sections, as well as automatic suspensions. 49 U.S.C. 30141(c)(4).

Because RIs hold positions of public trust, we are amending the RI regulations to prevent persons or entities convicted of a crime related to the importation, purchase, or sale of a motor vehicle or motor vehicle equipment from gaining or maintaining RI status.

We are amending 49 CFR 592.5(e)(1) to state that the agency may deny registration to applicants who have been convicted of a crime related to the importation, purchase, or sale of motor vehicles or motor vehicle equipment. The amendments allow the agency to deny registration to an applicant if any person associated with direct or indirect ownership or control of the applying entity, or any person employed by or associated with the applicant or applying entity, has been convicted of a crime related to the importation, purchase, or sale of motor vehicles or motor vehicle equipment. These offenses include, but are not limited to, title fraud, odometer fraud, or the sale of stolen vehicles. For the purposes of this final rule, the phrase “convicted of a crime” means a criminal conviction, whether entered on a verdict or plea, including a plea of nolo contendere, for which sentence has been imposed, whether convicted in the U.S. or in foreign jurisdictions.

We are also amending the regulations to allow the agency to deny registration renewal to RIs who have been convicted of, or whose business is directly or indirectly owned or controlled by, or under common ownership or control with, a person who has been convicted of a motor vehicle-related crime.

The integrity of the RI program is undermined when an entity, after becoming an RI, is convicted of a motor vehicle-related crime. A convicted entity, possessing a current registration and knowing that its registration will not be renewed, may have little incentive to faithfully follow its duties as an RI. The agency believes that waiting until the end of the fiscal year to deny registration renewal to a convicted entity poses an unacceptable risk to the public. To protect the program from this risk, we are amending Section 592.5(f) to state that an existing RI or any person who directly or indirectly owns or controls, or has common ownership or control of the RI's business, must not be convicted of a crime related to the importation, purchase, or sale of a motor vehicle or motor vehicle equipment. After the RI has been convicted, RI status may be revoked under Section 592.7(b).

B. Information Submitted in Annual RI Registration Renewals Must Be True and Correct

Under 49 CFR 592.5(a)(11), parties applying for RI status must certify that all information provided in the application is true and correct. As noted above, RIs occupy a position of public trust by certifying that imported nonconforming vehicles have been brought into conformity with all applicable safety standards. In deciding whether to register an applicant as an RI, the agency must be able to trust that the information provided in the application is accurate and truthful. If the agency discovers that an applicant submitted false or inaccurate information, the application may be denied. 49 CFR 592.5(e)(1).

NHTSA's regulations require RIs to annually renew their registrations. When evaluating a request for renewal, the Administrator must be able to rely on the accuracy and truthfulness of the annual statement submitted under 49 CFR 592.5(f) and 592.6(k) in support of that request. Existing RIs, however, are not currently required to certify that the renewal request is truthful. To address this shortcoming, we are amending § 592.5(f) and § 592.6(k) to require an RI to certify that all the information submitted in its annual renewal statement is true and correct. Any RI making a false or inaccurate certification in this statement may have its registration suspended or revoked pursuant to § 592.7(b).

C. RIs Must Certify Destruction or Exportation of Nonconforming Motor Vehicle Equipment Removed From Imported Vehicles During Conformance Modifications

The 1988 Act allows an RI to permanently import nonconforming vehicles if NHTSA has determined that the vehicle can be modified to comply with all applicable FMVSS. During conformance modification of nonconforming vehicles, RIs often must remove the nonconforming motor vehicle equipment items from these vehicles and replace the components with equipment meeting applicable FMVSS. Motor vehicle equipment items subject to the FMVSS include tires, wheels, brake hoses, brake fluid, seat belt assemblies, lighting equipment, and glazing. The final disposition of this equipment is a concern for the agency because the Safety Act prohibits the sale of nonconforming equipment.

To prevent nonconforming equipment from being sold in the United States, NHTSA has previously directed RIs to destroy or export the noncompliant equipment removed from a vehicle during conformance modifications. NHTSA has also directed RIs to certify in the statements of conformity submitted for the modified vehicle that all nonconforming equipment has been destroyed or exported.

Despite these efforts, nonconforming equipment removed from vehicles by RIs has been offered for sale on the Internet. To ensure that this noncompliant equipment does not enter interstate commerce, we are amending § 592.6(d) to require RIs to certify that all nonconforming equipment on an imported vehicle has been destroyed or exported. This certification must be made in the statement of conformity the RI submits to the agency upon the completion of all conformance modifications. Failing to certify the destruction or exportation of nonconforming equipment items removed from imported vehicles would result in the agency withholding release of the DOT conformance bond furnished for the vehicle at its time of entry and also may subject the RI to the suspension or revocation of its registration and to civil penalties.

D. Establishing Procedures for Importation of Motor Vehicles for the Purpose of Preparing an Import Eligibility Petition

A motor vehicle not originally manufactured to meet applicable FMVSS may not be imported on a permanent basis unless NHTSA determines, on its own initiative or upon the petition of an RI, that the vehicle is eligible for importation. 49 U.S.C. 30141(a)(1).

Two categories of vehicles are eligible for importation under section 30141(a)(1). The first are vehicles that can be readily altered to conform to the FMVSS and are substantially similar to vehicles certified as conforming to those standards (i.e., U.S.-certified counterparts). 49 U.S.C. 30141(a)(1)(A). The second category covers vehicles that do not have a substantially similar U.S.-certified counterpart but are capable of being altered to comply with all applicable FMVSS. 49 U.S.C. 30141(a)(1)(B). In the latter category, proof of compliance is based on dynamic test data or evidence that NHTSA decides adequately demonstrates compliance. Id. After NHTSA decides that a particular model and model year vehicle is eligible for importation, the agency assigns the vehicle a unique vehicle eligibility number that permits entry of the vehicle into the United States.

To develop a petition, an RI may need to physically examine at its facility in the United States a motor vehicle that was not certified by its manufacturer as complying with all applicable FMVSS and compare that vehicle to a U.S.-certified vehicle of the same model and model year. If there is no substantially similar U.S.-certified vehicle, the RI may need to import as many as two motor vehicles in order to conduct crash tests or conduct other tests or analyses to demonstrate the vehicle's compliance with applicable FMVSS.

NHTSA has previously informed RIs that only one vehicle may be imported for the purpose of preparing an import eligibility petition unless destructive test data is needed, in which case the agency will authorize the importation of one additional vehicle. Because formal regulations do not address these allowances, the agency has made these decisions on an ad hoc basis.

In May 2006, NHTSA amended the HS-7 Declaration form by including a new Box 13 to provide for the entry of nonconforming vehicles by RIs for the purpose of preparing an import eligibility petition. When the agency amended the form, however, we did not make corresponding amendments to 49 CFR part 591 to reflect the new contents of the HS-7 Declaration form. In order to harmonize the HS-7 Declaration form and the corresponding import regulations under § 591.5, the agency is amending § 591.5 to provide a regulatory basis for the importation of vehicles for the purpose of preparing an import eligibility petition.

In the NPRM, the agency requested comments regarding whether importing one vehicle is sufficient for the purpose of preparing an import eligibility petition for a vehicle that has a substantially similar U.S.-certified counterpart and whether importing two vehicles is sufficient where destructive crash test data is required to establish compliance with all applicable FMVSS. The agency received no comments on these issues and we are adopting the amendments as proposed. See 76 FR 2633, Jan. 14, 2011.

Accordingly, for an import eligibility petition covering a vehicle that is substantially similar to a U.S.-certified vehicle, RIs may import one vehicle in order to prepare the petition. For an import eligibility petition covering a vehicle that does not have a substantially similar U.S.-certified counterpart but is capable of being altered to comply, RIs may import up to two vehicles in order to prepare the petition.

These importations to prepare a petition will be subject to certain conditions to prevent abuse. An RI seeking to import a vehicle in support of a petition must inform NHTSA that it will, or has, petitioned the agency for an import eligibility decision. The RI will need NHTSA's written permission to import the vehicle. RIs must follow this procedure and may not declare the vehicle under Box 3 as one that has already been determined eligible for importation or enter an agency-assigned vehicle eligibility number on the HS-7 Declaration form. Improper use of an agency-assigned vehicle eligibility number on the HS-7 Declaration form for a vehicle imported to prepare an eligibility petition will be considered a violation of 49 U.S.C. 30112(a) and 49 CFR 592.6(a). Such a violation would subject the RI to the suspension or revocation of its registration (see 49 CFR 592.7(b)(1)) as well as civil penalties.

Vehicles imported for the purpose of preparing an import eligibility petition will be authorized to remain in the United States for only a limited time. The importing RI must file an import eligibility petition with the agency within 180 days of the vehicle's entry date. The RI must declare on the HS-7 Declaration form (Box 13) that it will destroy, export, or abandon the vehicle to the United States if NHTSA dismisses or denies the petition, if the RI withdraws the petition, or if the RI does not file a petition within 180 days from the date of entry. The vehicle must be destroyed, delivered to Customs for exportation, or abandoned to the United States within 30 days from the date of the dismissal, denial, or withdrawal of the RI's petition, as appropriate, or within 210 days from the date of the vehicle's entry if the RI fails to submit a petition. The RI must submit to NHTSA documentary proof of the vehicle's destruction, exportation, or abandonment within 15 days from the date of such action.

An RI will not need to obtain a DOT conformance bond when importing a nonconforming vehicle for the purpose of preparing an import eligibility petition. These conformance bonds are needed when NHTSA has determined that a particular vehicle is capable of being modified to meet U.S. standards. For vehicles imported to prepare a petition, the final rule provides for the use of a Temporary Importation Bond (“TIB”). The TIB serves as the RI's promise that the vehicle, which is imported on a temporary basis for up to one year for the purpose of testing or inspection, will be exported or destroyed. The RI must post a TIB with U.S. Customs and Border Protection (“CBP”) for twice the amount of duty, taxes, etc., that would otherwise be due at the time the vehicle is imported. If the RI does not export or destroy the vehicle, it is subject to forfeiture of the TIB and penalties for violations of NHTSA's regulations including civil penalties and the suspension or revocation of the RI's registration.

Under these amendments, if the agency grants the import eligibility petition the RI must do one of the following: furnish a DOT conformance bond for the vehicle, export the vehicle, abandon the vehicle to the United States, or destroy the vehicle. If the RI intends to bring the vehicle into compliance, the RI must submit a complete conformance package to the agency within 120 days from the date the petition is granted. If the vehicle has been destroyed, the RI must submit documentary proof of the destruction to the agency within 30 days from the date destruction. These recitals are reflected in the text that the agency is adding to § 591.5.

E. Adopting a Clearer Definition of the Term “Model Year” for the Purpose of Import Eligibility Decisions

Vehicles manufactured for sale in the United States are typically assigned model year designations for marketing and other purposes. Although the model year traditionally begins on September 1, it can begin on other dates as well. A date that is more important from the agency's perspective under 49 U.S.C. Chapter 301 subchapter III is the vehicle's “date of manufacture,” defined as the date on which manufacturing operations are completed on a vehicle at its place of main assembly. See 49 CFR 567.4(g)(2) and 49 CFR 571.7. The agency uses a vehicle's date of manufacture to identify the specific FMVSS requirements that the vehicle must be certified to meet. Manufacturers of vehicles intended for sale in the United States must affix to those vehicles a label that, among other things, identifies the vehicle's date of manufacture and certifies that the vehicle complies with all applicable FMVSS in effect on that date. 49 U.S.C. 30115; 49 CFR 567.4(g).

Many European manufacturers do not use a model year designation for vehicles manufactured for their own markets. Instead, they rely on the calendar year in which the vehicle is produced. Moreover, the countries in which these vehicles are produced generally do not assign model year designations. Although, as previously noted, September 1 through August 31 is commonly accepted as the model year for vehicles in the United States, these dates have limited relevance, if any, to vehicles that are produced for sale abroad.

As discussed above, vehicles not manufactured to conform to FMVSS may be imported into the U.S. by an RI if the agency has determined the vehicle is eligible. The agency may make this determination based on an import eligibility petition or on the agency's own initiative. When an import eligibility petition is based on the substantial similarity of the subject vehicle to a U.S.-certified counterpart, section 30141(a)(1)(A) provides for the agency to make the eligibility decision on a model and model year basis. Because many European manufacturers do not use a model year designation, RIs have a difficult time determining whether a particular vehicle has a substantially similar U.S.-certified counterpart of the same model year.

Consequently, the agency will amend the definition of “model year” in 49 CFR 593.4 by deleting “the calendar year that begins on September 1 and ends on August 31 of the next calendar year,” as one of the alternative definitions of the term “model year.” The deleted text will be replaced with the following: “the calendar year (i.e., January 1 through December 31) in which manufacturing operations are completed on the vehicle at its place of main assembly.” The new language is consistent with how manufacturers must identify the date of manufacture in the vehicle's certification label. See 49 CFR 567.4(g)(2). This change will eliminate much of the confusion now confronting RIs over the issue of whether a given vehicle manufactured for sale abroad has a substantially similar U.S.-certified counterpart of the same model year.

After an RI performs all modifications necessary to conform a vehicle to all applicable Federal motor vehicle safety and bumper standards, and remedies all noncompliances and defects that are the subject of any pending safety recalls, the RI must permanently affix to the vehicle a certification label that meets the content requirements of 49 CFR 567.4(k). Under 49 CFR 567.4 (k)(4)(i), the RI must identify the vehicle's model year or year of manufacture on the label. We are amending 49 CFR 567.4(k)(4)(i) to reflect the new definition of model year that will be added to 49 CFR 593.4.

F. Requiring Import Eligibility Petitions To Identify the Type Classification and Gross Vehicle Weight Rating (“GVWR”) of the Subject Vehicles

In making import eligibility decisions, the agency determines the safety standards applicable to a particular vehicle by, among other things, taking account of the model, model year (if assigned), date of manufacture, the type classification, and the gross vehicle weight rating (“GVWR”) of the vehicle. The various type classifications that a vehicle can be assigned are defined in the agency's regulations at 49 CFR 571.3. Those type classifications include passenger car, multipurpose passenger vehicle (“MPV”), truck, bus, motorcycle, trailer, and low-speed vehicle (“LSV”). The regulations also define GVWR as the loaded weight of the vehicle as specified by the manufacturer. 49 CFR 571.3.

The agency has access to the type classification and GVWR of U.S.-certified vehicles. Manufacturers of U.S.-certified vehicles must identify the type classification on the vehicle's certification label. See 49 CFR 567.4(g)(7). Manufacturers must also identify on the certification label the GVWR they have assigned to the vehicle. 49 CFR 567.4(g)(3). However, determining the type classification and GVWR of a motor vehicle without a substantially similar U.S.-certified counterpart can require some work. The agency may expend considerable time and effort ascertaining this information, thereby delaying the processing of the petition.

To rectify this situation, NHTSA is adopting a requirement that all import eligibility petitions under 49 CFR 593.6(a) must include the type classification and the GVWR of the vehicle. The final rule will amend 49 CFR 593.6(a) and (b) by adding language to require identification of the vehicle's type classification as defined in 49 CFR 571.3. If the petition is or will be submitted under 49 CFR 593.6(a), on the basis that the vehicle is substantially similar to a vehicle which was originally manufactured for importation into and sale in the United States, and which was certified by its manufacturer pursuant to 49 CFR part 567, then the RI must use the type classification of the vehicle's U.S.-certified counterpart. If the petition is or will be submitted under 593.6(b), on the basis that the vehicle's safety features comply with, or are capable of being modified to comply with, all applicable FMVSS, then the RI must identify the vehicle's type classification consistent with 49 CFR 571.3.

The final rule will also amend 49 CFR 593.6(a) and (b) by adding language to require identification of the vehicle's GVWR. If the petition is or will be submitted under 49 CFR 593.6(a), on the basis that the vehicle is substantially similar to a vehicle which was originally manufactured for importation into and sale in the United States, and which was certified by its manufacturer pursuant to 49 CFR part 567, then the RI must use the GVWR of the vehicle's U.S.-certified counterpart.

If the petition is or will be submitted under 593.6(b), on the basis that the vehicle's safety features comply with, or are capable of being modified to comply with, all applicable FMVSS, then the RI must identify the GVWR consistent with certification requirements of 49 CFR 567.4(g)(3) and 49 CFR 571.3. Pursuant to 49 CFR 593.7, the agency may accept or reject the GVWR identified in the petition.

The agency notes that if the vehicle is ultimately certified to meet applicable FMVSS, the GVWR must be included in the certification label required by 49 CFR part 567. Per the certification requirements, the GVWR shall not be less than the sum of the unloaded vehicle weight (as defined by § 571.3), the rated cargo load, and 150 pounds multiplied by the number of designated seating positions. 49 CFR 567.4(g)(3). Of course, compliance with a number of FMVSS is predicated on testing at the GVWR.

III. Technical Corrections

A. Identifying a Violation of Regulations in Part 592 as a Basis for the Non-Automatic Suspension or Revocation of an RI Registration

NHTSA is required by statute to establish procedures for revoking or suspending an RI's registration for not complying with a requirement of 49 U.S.C. 30141-30147, or any of 49 U.S.C. 30112, 30115, 30117-30122, 30125(c), 30127, or 30166, or any regulations issued under these sections. 49 U.S.C. 30141(c)(4). Regulations implementing this provision are found at 49 CFR 592.7. The agency amended § 592.7(b), as part of the 2004 rule, to list the regulations that, if violated, provide grounds for the suspension or revocation of an RI registration. These regulations were identified as including, but not being limited to, parts 567, 568, 573, 577, 591, 593, and 594. Part 592 was inadvertently omitted from this list. We are amending § 592.7(b) to add part 592.

B. Deletion of Redundant Text From 49 CFR 592.5(a) Identifying Contents of the RI Application

49 CFR 592.5(a)(4)(v) requires an application for registration as an RI to include the statement that “the applicant has never had a registration revoked pursuant to § 592.7, nor is it, nor was it, directly or indirectly, owned or controlled by, or under common ownership or control with, a Registered Importer that has had a registration revoked pursuant to § 592.7.” This requirement is also expressed, in identical language, in § 592.5(a)(6). To correct this redundancy, we are deleting the text at § 592.5(a)(4)(v). This does not eliminate a requirement.

C. Revisions to Certain Provisions To Reflect the Agency's Current Street Address

Sections 591.6(f)(1), 592.5(a)(1), 592.8(b), 593.5(b)(2), and 593.10(a), prescribe requirements for submitting information to NHTSA and identify the agency's address. The agency will amend these sections to reflect the agency's current street address.

IV. Effective Date

The amendments adopted in this notice will become effective 30 days after issuance of this final rule.

V. Rulemaking Analyses and Notices Regulatory Text

A. Executive Order 12866, Executive Order 13563, and DOT Regulatory Policies and Procedures

NHTSA has considered the impact of this rulemaking action under Executive Order 12866, Executive Order 13563, and the Department of Transportation's regulatory policies and procedures. This rulemaking is not significant. Accordingly, the Office of Management and Budget has not reviewed this rulemaking document under Executive Order 12886. Further, NHTSA has determined that this rulemaking is not significant under the Department of Transportation's regulatory policies and procedures. NHTSA currently anticipates the costs of the final rule to be so minimal as not to warrant preparation of a full regulatory evaluation. The rule does not involve any substantial public interest or controversy. It has no substantial effect upon State and local governments. It has no substantial impact upon a major transportation safety program. A regulatory evaluation analyzing the economic impact of the final rule establishing the RI program, adopted on September 29, 1989, was prepared, and is available for review in the docket.

B. Regulatory Flexibility Act

The agency has considered the effects of this rulemaking under the Regulatory Flexibility Act, and certifies that the adopted amendments will not have a significant economic impact upon a substantial number of small entities.

The following is NHTSA's statement providing the factual basis for the certification (5 U.S.C. 605(b)). The adopted amendments will primarily affect entities that are currently modifying nonconforming vehicles and which are small businesses within the meaning of the Regulatory Flexibility Act. At present, 65 such entities are registered with NHTSA. The adopted amendments will not significantly increase operating costs for any of these entities or impose any additional financial burden upon them.

Small governmental jurisdictions will not be affected at all since they are generally neither importers nor purchasers of nonconforming motor vehicles.

C. Executive Order 13132 (Federalism)

NHTSA has examined today's final rule pursuant to Executive Order 13132 (64 FR 43255; Aug. 10, 1999) and believes that no additional consultation with States, local governments, or their representatives is mandated beyond the rulemaking process. The agency believes that this final rule will not have sufficient federalism implications to warrant consultation with State and local officials or the preparation of a federalism summary impact statement. This final rule will not have “substantial direct effects on the States, on the relationship between the national government and the States, or on the distribution of power and responsibilities among the various levels of government.”

D. National Environmental Policy Act

NHTSA has analyzed this action for the purposes of the National Environmental Policy Act. The action would not have a significant effect upon the environment because it is not likely to change the volume of motor vehicles imported through RIs.

E. Executive Order 12988 (Civil Justice Reform)

Pursuant to Executive Order 12988 “Civil Justice Reform,” the agency has considered whether the amendments adopted in this final rule would have any retroactive or preemptive effect. NHTSA concludes that these amendments will not have any such effect. Judicial review of a rule based on this proposal may be obtained pursuant to 5 U.S.C. 702. That section does not require that a petition for reconsideration be filed prior to seeking judicial review.

F. Unfunded Mandates Reform Act of 1995

Section 202 of the Unfunded Mandates Reform Act of 1995 (“UMRA”) requires agencies to prepare a written assessment of the costs, benefits, and other effects of proposed or final rules that include a Federal mandate likely to result in the expenditure by State, local, or Tribal governments, in the aggregate, or by the private sector, of more than $100 million annually (adjusted for inflation with the base year of 1995). Before promulgating a rule for which a written assessment is needed, Section 205 of the UMRA generally requires NHTSA to identify and consider a reasonable number of regulatory alternatives and to adopt the least costly, most cost-effective, or least burdensome alternative that achieves the objectives of the rule. The provisions of Section 205 do not apply when they are inconsistent with applicable law. Moreover, Section 205 allows NHTSA to adopt an alternative other than the least costly, most cost-effective, or least burdensome alternative if the agency publishes with the final rule an explanation why that alternative was not adopted. Because this final rule will not require the expenditure of resources beyond $100 million annually, this action is not subject to the requirements of sections 202 and 205 of the UMRA.

G. Paperwork Reduction Act

Under the Paperwork Reduction Act of 1995, a person is not required to respond to a collection of information by a Federal agency unless the collection displays a valid OMB control number. This final rule includes collections of information that are part of “Importation of Vehicles and Equipment Subject to the Federal Motor Vehicle Safety, Bumper, and Theft Prevention Standards,” OMB control number 2127-0002. This clearance, which was based on a submission that accounted for the minor increase in the collection of information that will result from the final rule, is valid through January 31, 2014.

H. Executive Order 13045

Executive Order 13045 applies to any rule that (1) is determined to be “economically significant” as defined under E.O. 12866, and (2) concerns an environmental, health, or safety risk that NHTSA has reason to believe may have a disproportionate effect on children. If the regulatory action meets both criteria, we must evaluate the environmental health or safety effects of the planned rule on children, and explain why the planned rule is preferable to other potentially effective and reasonably feasible alternatives considered by us.

This rulemaking is not economically significant and no analysis of its impact on children is required.

I. National Technology Transfer and Advancement Act

Section 12(d) of the National Technology Transfer and Advancement Act of 1995 (“NTTAA”), Public Law 104-113, (15 U.S.C. 272) directs NHTSA to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (“SAE”). The NTTAA directs the agency to provide Congress, through the OMB, with explanations when we decide not to use available and applicable voluntary consensus standards.

After conducting a search of available sources, we have concluded that there are no voluntary consensus standards applicable to this final rule.

J. Privacy Act

Anyone is able to search the electronic form of all submissions received into any of our dockets by the name of the individual submitting the comment or petition (or signing the comment or petition, if submitted on behalf of an association, business, labor union, etc.). You may review DOT's complete Privacy Act Statement in the Federal Register published on April 11, 2000 (Volume 65, Number 70; Pages 19477-78).

K. Regulation Identifier Number (RIN)

The Department of Transportation assigns a regulation identifier number (“RIN”) to each regulatory action listed in the Unified Agenda of Federal Regulations. The Regulatory Information Service Center publishes the Unified Agenda in April and October of each year. You may use the RIN that appears in the heading on the first page of this document to find this action in the Unified Agenda.

In consideration of the foregoing, NHTSA is amending 49 CFR parts 567, 591, 592, and 593 as follows:

List of Subjects in 49 CFR Parts 567, 591, 592, and 593

Imports, Motor vehicle safety, Motor vehicles, Reporting and recordkeeping requirements.

In consideration of the foregoing, the agency amends parts 567, 591, 592, and 593, in Title 49 of the Code of Federal Regulations as follows:

PART 567—CERTIFICATION

1. The authority citation for part 567 continues to read as follows:

Authority: 49 U.S.C. 322, 30111, 30115, 30117, 30166, 32502, 32504, 33101-33104, 33108, and 33109; delegation of authority at 49 CFR 1.50.

2. In § 567.4, revise paragraph (k)(4)(i) to read as follows:

§ 567.4 Requirements for manufacturers of motor vehicles.

* * * * *

(k) * * *

(4) * * *

(i) Model year (if applicable) or year of manufacture and line of the vehicle, as reported by the manufacturer that produced or assembled the vehicle. “Model year” is used as defined in § 593.4 of this chapter. “Line” is used as defined in § 541.4 of this chapter.

* * * * *

PART 591—IMPORTATION OF VEHICLES AND EQUIPMENT SUBJECT TO FEDERAL SAFETY, BUMPER AND THEFT PREVENTION STANDARDS

1. The authority citation for part 591 continues to read as follows:

Authority: Pub. L. 100-562, 49 U.S.C. 322(a), 30117, 30141-30147; delegation of authority at 49 CFR 1.50.

2. Add § 591.5(l) to read as follows:

§ 591.5 Declarations required for importation.

* * * * *

(l) The vehicle does not conform to all applicable Federal Motor Vehicle Safety and Bumper Standards (but does conform to applicable Federal Theft Prevention Standards) but the importer is eligible to import it because:

(1) The importer has registered with NHTSA pursuant to part 592 of this chapter, and such registration has not been revoked or suspended;

(2) The importer has informed NHTSA in writing that (s)he intends to submit, or has already submitted, a petition requesting that NHTSA determine whether the vehicle is eligible for importation; and

(3) The importer has:

(i) Submitted to the Administrator a letter requesting permission to import the vehicle for the purpose of preparing an import eligibility petition; and

(ii) Received written permission from the Administrator to import the vehicle.

3. Amend § 591.6 by revising the last sentence of paragraph (f)(1) and adding a new paragraph (g) to read as follows:

§ 591.6 Documents accompanying declarations.

* * * * *

(f) * * *

(1) * * * The request shall be addressed to Director, Office of Vehicle Safety Compliance, West Building—Fourth Floor, Room W43-481, Mail Code NVS-220, 1200 New Jersey Avenue, SE., Washington, DC 20590.

* * * * *

(g) A declaration made pursuant to § 591.5(l) shall be accompanied by the following documentation:

(1) A letter from the Administrator authorizing importation pursuant to § 591.5(l). A Registered Importer seeking to import a motor vehicle pursuant to this section must submit, in advance of such importation, a written request to the Administrator containing a full and complete statement identifying the vehicle, its original manufacturer, model, model year (if assigned), date of manufacture, and VIN. The statement must also declare that the specific purpose of importing this vehicle is to prepare a petition to the Administrator requesting a determination whether the vehicle is eligible for importation pursuant to part 593 and that the importer has filed, or intends to file within 180 days of the vehicle's entry date, a petition pursuant to § 593.5. The request must be addressed to Director, Office of Vehicle Safety Compliance, Fourth Floor, Room W43-481, Mail Code NVS-220, 1200 New Jersey Avenue, SE., Washington, DC 20590.

4. In § 591.7, add paragraph (f) to read as follows:

§ 591.7 Restrictions on importations.

* * * * *

(f) If a vehicle has entered the United States under a declaration made pursuant to § 591.5(l) and:

(1) If the Administrator of NHTSA dismisses the petition or decides that the vehicle is not eligible for importation, or if the importer withdraws the petition or fails to submit a petition covering the vehicle within 180 days from the date of entry, the importer must deliver the vehicle, unless it is destroyed (with destruction documented by proof), to the Secretary of Homeland Security for export, or abandon the vehicle to the United States, within 30 days from the date of the dismissal, denial, or withdrawal of the importer's petition, as appropriate, or within 210 days from the date of entry if the importer fails to submit a petition covering the vehicle, and furnish NHTSA with documentary proof of the vehicle's exportation, abandonment, or destruction within 15 days from the date of such action; or

(2) If the Administrator grants the petition, the importer must:

(i) Furnish a bond, in an amount equal to 150 percent of the entered value of the vehicle as determined by the Secretary of the Treasury, within 15 days from the date the importer is notified that the petition has been granted, unless the vehicle has been destroyed, and bring the vehicle into conformity with all applicable Federal motor vehicle safety and bumper standards within 120 days from the date the petition is granted; or,

(ii) Deliver the vehicle to the Secretary of Homeland Security for export within 30 days from the date the importer is notified that the petition has been granted; or

(iii) Abandon the vehicle to the United States within 30 days from the date the importer is notified that the petition has been granted; or

(iv) Destroy the vehicle within 30 days from the date the importer is notified that the petition has been granted; and

(v) Furnish NHTSA with documentary proof of the vehicle's exportation, abandonment, or destruction within 15 days from the date of such action.

PART 592—REGISTERED IMPORTERS OF VEHICLES NOT ORIGINALLY MANUFACTURED TO CONFORM TO THE FEDERAL MOTOR VEHICLE SAFETY STANDARDS

1. The authority citation for part 592 continues to read as follows:

Authority: Pub. L. 100-562, 49 U.S.C. 322(a), 30117, 30141-30147; delegation of authority at 49 CFR 1.50.

2. In § 592.4, add the definition of “Convicted of a crime” to read as follows:

§ 592.4 Definitions.

* * * * *

Convicted of a crime means receiving a criminal conviction in the United States or in a foreign jurisdiction, whether entered on a verdict or plea, including a plea of nolo contendere, for which sentence has been imposed.

* * * * *

3. In § 592.5, revise paragraph (a)(1), amend paragraph (a)(4)(iv) by adding “and” after the last semicolon, remove paragraph (a)(4)(v), redesignate paragraph (a)(4)(vi) as paragraph (a)(4)(v), revise paragraph (e)(1) and paragraph (f), and add paragraph (i) to read as follows:

§ 592.5 Requirements for registration and its maintenance.

(a) * * *

(1) Is headed with the words “Application for Registration as Importer”, and submitted in three copies to: Director, Office of Vehicle Safety Compliance, National Highway Traffic Safety Administration, Fourth Floor, Room W43-481, Mail Code NVS-220, 1200 New Jersey Avenue, SE., Washington, DC 20590.

* * * * *

(e)(1) The Administrator:

(i) Shall deny registration to an applicant who (s)he decides does not comply with the requirements of paragraph (a) of this section;

(ii) Shall deny registration to an applicant whose previous registration has been revoked;

(iii) May deny registration to an applicant who has been convicted of, or whose business is directly or indirectly owned or controlled by, or under common ownership or control with, a person who has been convicted of, a crime related to the importation, purchase, or sale of a motor vehicle or motor vehicle equipment, including, but not limited to, offenses such as title fraud, odometer fraud, auto theft, or the sale of stolen vehicles; and

(iv) May deny registration to an applicant that is or was owned or controlled by, or under common ownership or control with, or in affinity with, a Registered Importer whose registration has been revoked. In determining whether to deny an application, the Administrator may consider whether the applicant is comprised in whole or in part of relatives, employees, major shareholders, partners, or relatives of former partners or major shareholders of a Registered Importer whose registration has been revoked.

* * * * *

(f) In order to maintain its registration, a Registered Importer must:

(1) Not be convicted of, or have any person associated with direct or indirect ownership or control of the registered importer's business or any person employed by or associated with the registered importer who is convicted of, a crime related to the importation, purchase, or sale of motor vehicles or motor vehicle equipment. These offenses include, but are not limited to, title fraud, odometer fraud, or the sale of stolen vehicles.

(2) File an annual statement. The annual statement must be titled “Yearly Statement of Registered Importer” and include the following written statements:

(i)“I certify that I have read and understand the duties of a Registered Importer, as set forth in 49 CFR 592.6, and that [name of Registered Importer] continues to comply with the requirements for being a Registered Importer.”

(ii) “I certify that all information provided in each of my previous annual statements, submitted pursuant to § 592.6(q), or changed in any notification that [name of Registered Importer] may have provided to the Administrator in compliance with § 592.6(l), remains correct and that all the information provided in this annual statement is true and correct.”

(iii) “I certify that I understand that, in the event that its registration is suspended or revoked, or lapses, [name of Registered Importer] will remain obligated to notify owners and to remedy noncompliance issues or safety related defects, as required by 49 CFR 592.6(j), for each vehicle for which [name of Registered Importer] has furnished a certificate of conformity to the Administrator.”

(3) Include with its annual statement a current copy of the Registered Importer's service insurance policy. Such statements must be filed not later than September 30 of each year; and

(4) Pay an annual fee and any other fee that is established under part 594 of this chapter. An annual fee must be paid not later than September 30 of any calendar year for the fiscal year that begins on October 1 of that calendar year. The Registered Importer must pay any other fee not later than 15 days after the date of the written notice from the Administrator.

* * * * *

(i) The Administrator may deny registration renewal to any applicant who has been convicted of, or whose business is directly or indirectly owned or controlled by, or under common ownership or control with, a person who has been convicted of, a crime related to the importation, purchase, or sale of a motor vehicle or motor vehicle equipment, including, but not limited to, title fraud, odometer fraud, or the sale of stolen vehicles.

4. In § 592.6, revise paragraphs (d) introductory text, (d)(1) and (k) to read as follows:

§ 592.6 Duties of a registered importer.

* * * * *

(d) For each motor vehicle imported pursuant to part 591.5(f) of this chapter, certify to the Administrator:

(1) Within 120 days of the importation that it has brought the motor vehicle into conformity with all applicable Federal motor vehicle safety and bumper standards in effect at the time the vehicle was manufactured by the fabricating manufacturer. Such certification shall state verbatim either that “I know that the vehicle that I am certifying conforms with all applicable Federal motor vehicle safety and bumper standards because I personally witnessed each modification performed on the vehicle to effect compliance,” or that “I know that the vehicle I am certifying conforms with all applicable Federal motor vehicle safety and bumper standards because the person who performed the necessary modifications to the vehicle is an employee of [RI name] and has provided full documentation of the work that I have reviewed, and I am satisfied that the vehicle as modified complies.” The Registered Importer shall also certify that it has destroyed or exported any noncompliant motor vehicle equipment items that were removed from an imported vehicle in the course of performing conformance modifications. The Registered Importer shall also certify, as appropriate, that either:

* * * * *

(k) Provide an annual statement, certifying that the information therein is true and correct, and pay an annual fee as required by § 592.5(f).

* * * * *

5. In § 592.7, revise the last sentence of paragraph (b)(1) to read as follows:

§ 592.7 Suspension, revocation, and reinstatement of suspended registrations.

* * * * *

(b) * * *

(1) * * * These regulations include, but are not limited to, parts 567, 568, 573, 577, 591, 592, 593, and 594 of this chapter.

* * * * *

6. In § 592.8, revise the third sentence of paragraph (b) to read as follows:

§ 592.8 Inspection; release of vehicle and bond.

* * * * *

(b) * * * Each submission shall be mailed by certified mail, return receipt requested, or by private express delivery service to: Director, Office of Vehicle Safety Compliance, National Highway Traffic Safety Administration, Fourth Floor, Room W43-481, Mail Code NVS-220, 1200 New Jersey Avenue, SE., Washington, DC 20590 or delivered in person. * * *

* * * * *

PART 593—DETERMINATIONS THAT A VEHICLE NOT ORIGINALLY MANUFACTURED TO CONFORM TO THE FEDERAL MOTOR VEHICLE SAFETY STANDARDS IS ELIGIBLE FOR IMPORTATION

1. The authority citation for part 593 continues to read as follows:

Authority: 49 U.S.C. 322 and 30141(b); delegation of authority at 49 CFR 1.50.

2. In § 593.4, revise the definition of “Model Year” to read as follows:

§ 593.4 Definitions.

* * * * *

Model year means the year used by a manufacturer to designate a discrete vehicle model irrespective of the calendar year in which the vehicle was actually produced, or the model year as designated by the vehicle's country of origin, or, if neither the manufacturer nor the country of origin has made such a designation, the calendar year (i.e., January 1 through December 31) in which manufacturing operations are completed on the vehicle at its place of main assembly.

* * * * *

3. In § 593.5, revise paragraph (b)(2) to read as follows:

§ 593.5 Petitions for eligibility determinations.

* * * * *

(b) * * *

(2) Be headed with the words “Petition for Import Eligibility Determination” and submitted in three copies to: Director, Office of Vehicle Safety Compliance, National Highway Traffic Safety Administration, Fourth Floor, Room W43-481, Mail Code NVS-220, 1200 New Jersey Avenue, SE., Washington, DC 20590.

* * * * *

4. In § 593.6, revise paragraph (a)(1) and paragraph (b)(1) to read as follows:

§ 593.6 Basis for petition.

(a) * * *

(1) Identification of the original manufacturer, model, and model year of the vehicle for which a determination is sought, as well as the type classification, as defined by § 571.3 of this chapter, (e.g., passenger car, multipurpose passenger vehicle, bus, truck, motorcycle, trailer, low-speed vehicle) and the gross vehicle weight rating (GVWR) of the substantially similar vehicle which was originally manufactured for importation into and sale in the United States, and which was certified by its manufacturer pursuant to part 567 of this chapter, upon which the petition is based.

* * * * *

(b) * * *

(1) Identification of the model and model year of the vehicle for which a determination is sought, as well as the type classification of the vehicle, as defined by § 571.3 of this chapter (e.g., passenger car, multipurpose passenger vehicle, bus, truck, motorcycle, trailer, low-speed vehicle) and the vehicle's gross vehicle weight rating (GVWR) as identified by the Registered Importer consistent with parts 567 and 571 of this chapter.

* * * * *

Issued on: August 18, 2011.
David L. Strickland,
Administrator.

[FR Doc. 2011-21595 Filed 8-24-11; 8:45 am]

BILLING CODE 4910-59-P